DEPARTMENT OF DEFENSE

Department of the Army, Corps of Engineers

Notice of Intent To Adopt a Final Environmental Impact Statement

AGENCY: U.S. Army Corps of Engineers, DOD.

ACTION: Notice.

SUMMARY: The Army Corps of Engineers, Los Angeles District, has reviewed the Final Environmental Impact Statement (FEIS) prepared by the U.S. Department of Transportation, Federal Highway Administration (FHWA), dated January 21, 2000, for State Route 125 South, between Otay Mesa and Spring Valley in San Diego, San Diego County, California. The Army Corps of Engineers intends to adopt all or a portion of the FEIS for purposes of compliance with the National Environmental Policy Act (NEPA).

DATES: Written comments must be received by March 23, 2001. This notice solicits comments on the Army Corps of Engineers intent to adopt the FEIS only.

ADDRESSES: U.S. Army Corps of Engineers, ATTN: CESPL-CO-R, San Diego Regulatory Field Office, 16885 West Bernardo Drive, Suite 300A, San Diego, California 92127. Comments may also be submitted, via electronic mail, to: tdean@spl.usace.army.mil.

FOR FURTHER INFORMATION CONTACT: Mr. Terry Dean, San Diego Regulatory Field Office, at (858) 674-5386.

SUPPLEMENTARY INFORMATION: The proposed project is to construct a controlled access tollway from Otay Mesa Road to State Route 54 with interchanges at Route 54, future Mount Miguel Road, East “H” Street, Telegraph Canyon Road, Olympic Parkway, and Otay Mesa Road. From Olympic Parkway to SR-54, four lanes would be initially constructed, with grading for the ultimate configuration to accommodate eight mixed flow lanes (plus a truck climbing lane where needed), a wide median for possibly two future high occupancy vehicle (HOV) lanes or a transit facility. The ultimate typical roadbed would be approximately 194 feet in width. From Otay Mesa Road to Olympic Parkway, four lanes (plus a truck climbing lane where needed) would be initially constructed, with grading for the ultimate configuration to accommodate two additional mixed flow lanes, and a wide median for possibly two future HOV lanes or transit facilities. The ultimate typical roadbed would be approximately 170 feet in width. The project would be 11.2 miles in length and the total right-of-way would encompass approximately 760 acres. Impacts to aquatic resources would encompass an area of approximately 8.16 acres of wetlands (of which 0.24 acre is comprised of 34 vernal pools) and 2.15 acres of non-wetland waters of the United States (U.S.).

On April 19, 2000, the Caltrans submitted an application for a Department of the Army permit under Section 404 of the Clean Water Act (CWA) to discharge fill material into 10.34 acres of waters of the U.S., including jurisdictional wetlands, to construct a controlled access tollway from Otay Mesa Road to State Route 54 with interchanges at Route 54, future Mount Miguel Road, East “H” Street, Telegraph Canyon Road, Olympic Parkway, and Otay Mesa Road. Impacts to aquatic resources would encompass approximately 8.16 acres of jurisdictional wetlands (of which 0.24 acre is comprised of 34 vernal pools which are within the NEPA Scope of Analysis) and 2.15 acres of non-wetland waters of the U.S. Specifically, the main stem of the roadway would impact 7.21 acres of waters of the U.S., including 5.65 acres of wetlands and 1.56 acres of non-wetland waters of the U.S.; the East “H” Street interchange would impact 2.15 acres of wetlands; the Telegraph Canyon Road interchange would impact 0.39 acre of wetlands; and the Olympic Parkway interchange would impact 0.59 acre of non-wetland waters of the U.S.

Prior to the development of the Draft EIS (DEIS), several scoping meetings were held by the FHWA/California Department of Transportation (Caltrans) to identify local issues and areas of concern. On June 21, 1996, the DEIS was filed with the U.S. Environmental Protection Agency (EPA). The DEIS was circulated for public review from July 12 to September 3, 1996. During the public review period, the FHWA/Caltrans held a public hearing on August 15, 1996. A Supplemental DEIS was signed on March 29, 1999, and circulated for public review from April 9, 1999, until May 24, 1999. The purpose of the Supplemental DEIS was to address potential impacts on the Federally-listed Endangered Species (the Quino checkerspot butterfly) and to notify the public of several minor design and alignment changes to avoid or minimize Corps jurisdictional impacts and conform to existing topography. A public hearing was held by Caltrans/FHWA on May 12, 1999, relative to the Supplemental DEIS. The FEIS was signed by the FHWA on January 21, 2000, and circulated for public review from February 8, 2000, to March 20, 2000. On June 9, 2000, the FHWA signed the Record of Decision.

The Army Corps of Engineers' Regulatory Program at 33 CFR 320-330 requires compliance with the NEPA, the EPA's 404(b)(1) Guidelines, and a public interest evaluation. Accordingly, for purposes of the Army Corps of Engineers' compliance with the NEPA and to prevent duplication of effort, the Army Corps of Engineers intends to adopt all or a portion of the FEIS. However, we have determined further analysis is necessary to document compliance with our public interest requirements and the 404(b)(1) Guidelines. We will be distributing a notice to the public of the receipt of an application by the Caltrans and solicit comments on the proposed project. An Environmental Assessment will be prepared to address the additional analysis and comments received in response to the Public Notice.

Comments concerning the Caltrans' proposed project must be provided in response to the Los Angeles District Public Notice of the project application, which we anticipate, will be circulated on February 16, 2001. This Public Notice can be obtained by submitting a written request to Mr. Terry Dean at the above listed address or by accessing our Internet web page at http://www.spl.usace.army.mil.

Dated: February 14, 2001.
John P. Carroll,
Colonel, Corps of Engineers, District Engineer.

[FR Doc. 01-4291 Filed 2-20-01; 8:45 am]

BILLING CODE 3710-KF-U